DEPARTMENT OF COMMERCE

Office of the Secretary

Agency Information Collection Activities; Submission to the Office of Management and Budget (OMB) for Review and Approval; Comment Request; Generic Clearance for Requests for Meetings and Registrations for Events and Conferences; Correction

AGENCY: Office of the Secretary, Commerce.

ACTION: Notice of information collection, correction.

SUMMARY: On December 28, 2022, the Department of Commerce, published a 60-day public comment period notice with FR Document Number 2022-28260 (Page 79855) seeking public comments for an information collection entitled, “Generic Clearance for Requests for Meetings and Registrations for Events and Conferences.” This document referenced incorrect information in the ADDRESSES section and the Method of Collection section, and Commerce hereby issues a correction notice as required by the Paperwork Reduction Act of 1995.

FOR FURTHER INFORMATION CONTACT: For additional information concerning this correction, contact Sheleen Dumas, the Department Paperwork Reduction Act Clearance Officer, at PRAcomments@doc.gov.

SUPPLEMENTARY INFORMATION:

Correction

ADDRESSES: Interested persons are invited to submit written comments to the Department Paperwork Reduction Act Clearance Officer, Department of Commerce, Room 6616, 14th and Constitution Avenue NW, Washington, DC 20230 or via the internet at PRAcomments@doc.gov. All comments received are part of the public record. Comments will generally be posted without change. Do not submit Confidential Business Information or otherwise sensitive or protected information.

Method of Collection

Information on this form will be collected using an electronic and paper format.

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2023-00030 Filed 1-5-23; 8:45 am]

BILLING CODE 3510-17-P